ENVIRONMENTAL PROTECTION AGENCY

[EPA-HQ-OPP-2009-0019; FRL-8843-8]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2008 through September 30, 2009 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended onto be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How can I get copies of this document and other related information?

EPA has established a docket for this action under docket identification (ID) number EPA-HQ-OPP-2009-0019. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U. S. States and Territories

Alabama

Department of Agriculture and Industries

Specific exemption: EPA authorized the use of diquat dibromide on canola as a pre-harvest aid (dessicant); July 5, 2009 to July 1, 2009. Contact: Marcel Howard.

Arkansas

State Plant Board

Crisis: On March 2, 2009, for the use of chlorantraniliprole on rice seed to control rice water weevil. This program ended on August 1, 2009. Contact: Marcel Howard.

On March 19, 2009, for the use of thiamethoxam as a rice seed treatment to control the insect pest, grape colaspis. This program ended on August 1, 2009. Contact: Andrea Conrath.

California

Environmental Protection Agency, Department of Pesticide Regulation

Specific exemption: EPA authorized the use of pyraclostrobin on Belgian endive to control sclerotinia; November 14, 2008 to January 31, 2009. Contact: Stacey Groce.

EPA authorized the use of boscalid on Belgian endive to control sclerotinia; November 14, 2008 to January 31, 2009. Contact: Stacey Groce.

EPA authorized the use of maneb on walnut to control walnut blight; December 5, 2008 to December 5, 2009. Contact: Libby Pemberton.

EPA authorized the use of thiophanate methyl on mushroom to control green mold; January 11, 2009 to December 31, 2009. Contact: Andrea Conrath.

EPA authorized the use of lavandulyl sescioate on raisin, table, and wine grapes to control vine mealybugs; March 31, 2009 to September 30, 2009. Contact: Andrew Ertman.

EPA authorized the use of naphthalene acetic acid on avocado to inhibit sprouting during storage; April 7, 2009 to September 30, 2009. Contact: Andrew Ertman.

EPA authorized the use of avermectin on lima bean to control spider mites; May 1, 2009 to August 31, 2009. Contact: Andrew Ertman.

EPA authorized the use of difenoconazole on almond to control Alternaria leaf spot; May 1, 2009 to June 30, 2009. Contact: Stacey Groce.

EPA authorized the use of propiconazole on nectarine to control sour rot; May 1, 2009 to September 30, 2009. Contact: Andrea Conrath.

EPA authorized the use of propiconazole on peach to control sour rot; May 1, 2009 to September 30, 2009. Contact: Andrea Conrath.

EPA authorized the use of fenpyroximate in honeybee hives to control varroa mites; June 1, 2009 to September 30, 2009. Contact: Stacey Groce.

Crisis: On December 9, 2008, for the use of fenpyroximate in honeybee hives to control varroa mites. This program ended on April 30, 2009. Contact: Stacey Groce.

On December 19, 2008, for the use of clothianidin on onions to control seed corn maggot. This program ended on March 15, 2009. Contact: Stacey Groce.

On May 7, 2009, for the use of novaluron on strawberries to control lygus bug. This program ended on November 1, 2009. Contact: Marcel Howard.

Colorado

Department of Agriculture

Specific exemption: EPA authorized the use of fenpyroximate in honeybee hives to control varroa mites; October 6, 2008 to September 30, 2009. Contact: Stacey Groce.

EPA authorized the use of acibenzolar on onions to control thrips, which transmit iris yellow spot virus; April 21, 2009 to September 1, 2009. Contact: Libby Pemberton.

EPA authorized the use of spirotetramat on dry bulb onion to control thrips, which transmit iris yellow spot virus; May 27, 2009 to September 30, 2009. Contact: Andrew Ertman.

EPA authorized the use of avermectin on dry bulb onion to control thrips, which transmit iris yellow spot virus; June 23, 2009 to September 30, 2009. Contact: Andrew Ertman.

Delaware

Department of Agriculture

Specific exemption: EPA authorized the use of thiophanate methyl on mushroom to control green mold; January 11, 2009 to December 31, 2009. Contact: Andrea Conrath.

EPA authorized the use of spiromesifen on soybean to control spider mites; May 22, 2009 to September 15, 2009. Contact: Andrea Conrath.

Florida

Department of Agriculture and Consumer Services

Specific exemption: EPA authorized the use of novaluron on strawberries to control sap beetles; December 31, 2008 to December 31, 2009. Contact: Andrew Ertman.

EPA authorized the use of thiophanate on mushroom to control green mold; January 11, 2009 to December 31, 2009. Contact: Andrea Conrath.

Georgia

Department of Agriculture

Specific exemption: EPA authorized the use of diquat dibromide on canola as a pre-harvest aid (dessicant); June 4, 2009 to July 30, 2009. Contact: Marcel Howard.

Hawaii

Department of Agriculture

Crisis: On January 9, 2009, for the use of fipronil in feral beehive colonies to control varroa mites. This program ended on January 22, 2009. Contact: Stacey Groce.

Idaho

Department of Agriculture

Specific exemption: EPA authorized the use of fenpyroximate in beehives to control varroa mites; October 6, 2008 to September 30, 2009. Contact: Stacey Groce.

EPA authorized the use of linuron on lentils to control mayweed chamomile and prickly lettuce; December 23, 2008 to June 20, 2009. Contact: Andrea Conrath.

EPA authorized the use of endothall in agricultural irrigation canals to control various aquatic weeds; May 11, 2009 to September 15, 2009. Contact: Andrea Conrath.

EPA authorized the use of spirotetramat on dry bulb onions to control thrips, which transmit iris yellow spot virus; May 29, 2009 to September 15, 2009. Contact: Andrew Ertman.

EPA authorized the use of hexythiazox on sweet corn to control mites; June 25, 2009 to August 20, 2009. Contact: Andrew Ertman.

EPA authorized the use of fenpyroximate in beehives to control varroa mites; September 30, 2009 to October 1, 2010. Contact: Stacey Groce.

Illinois

Department of Agriculture

Specific exemption: EPA authorized the use of fenpyroximate in beehives to control varroa mites; October 6, 2008 to September 30, 2009. Contact: Stacey Groce.

EPA authorized the use of fenpyroximate in beehives to control varroa mites; September 30, 2009 to October 1, 2010. Contact: Stacey Groce.

Crisis: On September 7, 2009, for the use of mandipropamid on basil to control downy mildew. This program ended on September 19, 2009. Contact: Marcel Howard.

Iowa

Department of Agriculture and Land Stewardship

Specific exemption: EPA authorized the use of sulfentrazone on strawberries to control broadleaf weeds; June 25, 2009 to December 15, 2009. Contact: Andrew Ertman.

Kansas

Department of Agriculture

Specific exemption: EPA authorized the use of diquat dibromide on canola as a pre-harvest aid (dessicant); June 17, 2009 to July 6, 2009. Contact: Marcel Howard.

Kentucky

Department of Agriculture

Specific exemption: EPA authorized the use of diquat dibromide on canola as a pre-harvest aid (dessicant); June 5, 2009 to July 1, 2009. Contact: Marcel Howard.

Louisiana

Department of Agriculture and Forestry

Specific exemption: EPA authorized the use of chlorantraniliprole on rice seed to control rice water weevil; November 26, 2008 to July 31, 2009. Contact: Marcel Howard.

EPA authorized the use of pyraclostrobin on sugarcane to control Brown Rust (Puccinia malanocephala); February 13, 2009 to June 30, 2009. Contact: Libby Pemberton.

EPA authorized the use of anthraquinone on rice seed to repel blackbirds; March 6, 2009 to March 6, 2010. Contact: Marcel Howard.

Crisis: On February 27, 2009, for the use of anthraquinone in field and sweet corn seed to repel crows and blackbird species. This program ended on May 10, 2009. Contact: Marcel Howard.

Maryland

Department of Agriculture

Specific exemption: EPA authorized the use of thiophanate methyl on mushroom to control green mold; January 11, 2009 to December 31, 2009. Contact: Andrea Conrath.

Massachusetts

Massachusetts Department of Food and Agriculture

Specific exemption: EPA authorized the use of quinclorac on cranberry to control dodder disease; June 10, 2009 to July 31, 2009. Contact: Marcel Howard.

Michigan

Michigan Department of Agriculture

Specific exemption: EPA authorized the use of anthraquinone on field and sweet corn seed to repel sandhill cranes; February 17, 2009 to February 11, 2010. Contact: Marcel Howard.

EPA authorized the use of kasugamycin on apple to control fire blight; April 24, 2009 to April 20, 2010. Contact: Andrew Ertman.

EPA authorized the use of mancozeb on ginseng to control Phytophthora blight; May 22, 2009 to October 31, 2009. Contact: Stacey Groce.

EPA authorized the use of zoxamide on ginseng to control Phytophthora blight; May 22, 2009 to October 31, 2009. Contact: Stacey Groce.

EPA authorized the use of sulfentrazone on strawberries to control broadleaf weeds; June 25, 2009 to December 15, 2009. Contact: Andrew Ertman.

EPA authorized the use of spirotetramat on dry bulb onions to control thrips; July 22, 2009 to September 30, 2009. Contact: Andrew Ertman.

Minnesota

Department of Agriculture

Specific exemption: EPA authorized the use of fenpyroximate in beehives to control varroa mites; February 12, 2009 to September 30, 2009. Contact: Stacey Groce.

EPA authorized the use of chlorophene in commercial and government laboratories, including testing, diagnostic, research, and necropsy laboratories, abattoirs, and other related facilities that handle deer, elk, sheep, and bovine tissues and wastes that are potentially contaminated to control prions; August 14, 2009 to August 14, 2012. Contact: Princess Campbell.

EPA authorized the use of anthraquinone on field and sweet corn seed to repel sandhill cranes; December 5, 2009 to July 30, 2010. Contact: Marcel Howard.

Mississippi

Department of Agriculture and Commerce

Specific exemption: EPA authorized the use of fenpyroximate in beehives to control varroa mites; October 6, 2008 to October 1, 2009. Contact: Stacey Groce.

EPA authorized the use of anthraquinone on field and sweet corn seed to repel crows and blackbird species; February 27, 2009 to February 27, 2010. Contact: Marcel Howard.

EPA authorized the use of anthraquinone on rice seed to repel blackbirds; March 13, 2009 to March 6, 2010. Contact: Marcel Howard.

EPA authorized the use of chlorantraniliprole on sweet corn to control corn earworm; May 14, 2009 to August 1, 2009. Contact: Marcel Howard.

EPA authorized the use of fenpyroximate in beehives to control varroa mites; September 30, 2009 to October 1, 2010. Contact: Stacey Groce.

Crisis: On March 4, 2009, for the use of chlorantraniliprole in rice seed to control rice water weevil. This program ended on July 1, 2009. Contact: Marcel Howard.

Missouri

Department of Agriculture

Specific exemption: EPA authorized the use of fenpyroximate in beehives to control varroa mites; October 6, 2008 to September 30, 2009. Contact: Stacey Groce.

EPA authorized the use of chlorantraniliprole on rice seed to control rice water weevil; March 4, 2009 to June 15, 2009. Contact: Marcel Howard.

EPA authorized the use of anthraquinone on rice seed to repel blackbirds; March 6, 2009 to March 6, 2010. Contact: Marcel Howard.

EPA authorized the use of diquat bromide on canola as a pre-harvest aid (dessicant); June 5, 2009 to July 1, 2009. Contact: Marcel Howard.

Crisis: On March 4, 2009, for the use of chlorantraniliprole in rice seed to control rice water weevil. This program ended on June 15, 2009. Contact: Marcel Howard.

Montana

Department of Agriculture

Quarantine: EPA authorized the use of chlorophene in commercial and government laboratories, including testing, diagnostic, research, and necropsy laboratories, abattoirs, and other related facilities that handle animal tissues and wastes that are potentially contaminated to control prions; September 29, 2009 to September 29, 2012. Contact: Princess Campbell.

Nebraska

Department of Agriculture

Specific exemption: EPA authorized the use of fenpyroximate in beehives to control varroa mites; February 12, 2009 to September 30, 2009. Contact: Stacey Groce.

EPA authorized the use of anthraquinone on field and sweet corn seed to repel ring-necked pheasants; April 7, 2009 to April 20, 2010. Contact: Marcel Howard.

EPA authorized the use of fenpyroximate in beehives to control varroa mites; September 30, 2009 to October 1, 2010. Contact: Stacey Groce.

Nevada

Department of Agriculture

Specific exemption: EPA authorized the use of bifenazate on timothy to control Banks grass mite; March 2, 2009 to September 1, 2009. Contact: Andrea Conrath.

New Jersey

Department of Environmental Protection

Specific exemption: EPA authorized the use of clothianidin on onion to control corn maggot, onion maggot, and thrips; May 1, 2009 to May 1, 2010. Contact: Stacey Groce.

EPA authorized the use of quinclorac on cranberry to control dodder; June 16, 2009 to December 15, 2009. Contact: Marcel Howard.

New Mexico

Department of Agriculture

Specific exemption: EPA authorized the use of spirotetramat on dry bulb onion to control thrips, which transmit iris yellow spot virus; May 29, 2009 to October 31, 2009. Contact: Andrew Ertman.

New York

Department of Environmental Conservation

Specific exemption: EPA authorized the use of spirotetramat on dry bulb onion to control thrips, which transmit iris yellow spot virus; May 29, 2009 to September 15, 2009. Contact: Stacey Groce.

EPA authorized the use of fenpyroximate in honeybee hives to control varroa mites; June 1, 2009 to September 30, 2009. Contact: Stacey Groce.

EPA authorized the use of avermectin on dry bulb onion to control thrips, which transmit iris yellow spot virus; June 23, 2009 to September 15, 2009. The state had authorized use under a crisis prior to this, on June 18, 2009; that program ended on with the authorization of the specific of the exemption. Contact: Andrew Ertman.

North Carolina

Department of Agriculture

Crisis: On June 2, 2009, for the use clothianidin on sweet potato to control white grubs. This program ended on June 17, 2009. Contact: Stacey Groce.

North Dakota

Department of Agriculture

Specific exemption: EPA authorized the use of fenpyroximate in honeybee hives to control varroa mites; March 27, 2009 to September 30, 2009. Contact: Stacey Groce.

EPA authorized the use of anthraquinone in field and sweet corn to repel ring-necked pheasants; April 7, 2009 to April 7, 2010. Contact: Marcel Howard.

EPA authorized the use of sulfentrazone on flax to control kochia; April 21, 2009 to June 30, 2009. Contact: Andrew Ertman.

Ohio

Department of Agriculture

Specific exemption: EPA authorized the use of sulfentrazone on strawberries to control broadleaf weeds; June 20, 2009 to December 15, 2009. Contact: Andrew Ertman.

EPA authorized the use of spirotetramat on dry bulb onions to control broadleaf weeds; July 22, 2009 to September 15, 2009. Contact: Andrew Ertman.

Oklahoma

Department of Agriculture

Specific exemption: EPA authorized the use of fenpyroximate in beehives to control varroa mites; December 3, 2008 to September 30, 2009. Contact: Stacey Groce.

EPA authorized the use of pendimethalin on Bermuda grass pastures and hayfields to control sandbur species; March 12, 2009 to June 30, 2009. Contact: Stacey Groce.

EPA authorized the use of diquat dibromide on canola as a pre-harvest aid (dessicant); June 17, 2009 to July 1, 2009. Contact: Marcel Howard.

Crisis: On May 23, 2009, for the use of s-metolachlor on sesame to control broadleaf weeds. This program ended on June 7, 2009. Contact: Marcel Howard.

Oregon

Department of Agriculture

Specific exemption: EPA authorized the use of fenpyroximate in beehives to control varroa mites; October 6, 2008 to September 30, 2009. Contact: Stacey Groce.

EPA authorized the use of thiophanate methyl on mushroom to control green mold; January 11, 2009 to December 31, 2009. Contact: Andrea Conrath.

EPA authorized the use of fenoxaprop-p-ethyl on grass grown for seed to control grassy weeds; January 23, 2009 to September 15, 2009. Contact: Andrea Conrath.

EPA authorized the use of fipronil on rutabaga to control the cabbage maggot; March 6, 2009 to September 30, 2009. Contact: Andrea Conrath.

EPA authorized the use of fipronil on turnip to control the cabbage maggot; March 6, 2009 to September 30, 2009. Contact: Andrea Conrath.

EPA authorized the use of sulfentrazone on strawberries to control broadleaf weeds; March 15, 2009 to February 28, 2010. Contact: Andrew Ertman.

EPA authorized the use of bifenthrin on orchardgrass to control orchardgrass billbug; April 21, 2009 to December 15, 2009. Contact: Andrea Conrath.

EPA authorized the use of spirotetramat on dry bulb onion to control thrips, which transmit iris yellow spot virus; May 29, 2009 to September 15, 2009. Contact: Andrew Ertman.

Pennsylvania

Department of Agriculture

Specific exemption: EPA authorized the use of thiophanate methyl on mushrooms to control green mold; January 11, 2009 to December 31, 2009. Contact: Andrea Conrath.

South Dakota

Department of Agriculture

Specific exemption: EPA authorized the use of anthraquinone in field and sweet corn to repel ring-necked pheasants; April 7, 2010 to April 7, 2011. Contact: Marcel Howard.

EPA authorized the use of fenpyroximate in honeybee hives to control varroa mites; May 14, 2009 to September 30, 2009. Contact: Stacey Groce.

Tennessee

Department of Agriculture

Specific exemption: EPA authorized the use of diquat dibromide on canola as a pre-harvest aid (dessicant); June 5, 2009 to July 1, 2009. Contact: Marcel Howard.

Texas

Department of Agriculture

Crisis: On February 5, 2008, for the use of pendimethalin on on Bermuda grass pastures and hayfields to control sandbur species. This program ended on February 19, 2008. Contact: Stacey Groce.

On April 16, 2009, for the use of nicosulfuron on Bermuda grass pastures and hayfields to control sandbur species. This program ended on September 16, 2009. Contact: Stacey Groce.

On May 23, 2009, for the use of s-metolachlor on sesame to control broadleaf weeds. This program ended on June 7, 2009. Contact: Marcel Howard.

Specific exemption: EPA authorized the use of chlorantraniliprole on rice seed to control rice water weevil; October 31, 2008 to June 1, 2009. Contact: Marcel Howard.

EPA authorized the use of triflumizole on parsley to control powdery mildew (Erysiphe spp.); January 2, 2009 to January 2, 2010. Contact: Libby Pemberton.

EPA authorized the use of triflumizole on dandelion to control powdery mildew (Erysiphe spp.); January 2, 2009 to January 2, 2010. Contact: Libby Pemberton

EPA authorized the use of triflumizole on Swiss chard to control powdery mildew (Erysiphe spp.); January 2, 2009 to January 2, 2010. Contact: Libby Pemberton

EPA authorized the use of triflumizole on collards to control powdery mildew (Erysiphe spp.); January 2, 2009 to January 2, 2010. Contact: Libby Pemberton

EPA authorized the use of triflumizole on kale to control powdery mildew (Erysiphe spp.); January 2, 2009 to January 2, 2010. Contact: Libby Pemberton

EPA authorized the use of triflumizole on kohlrabi to control powdery mildew (Erysiphe spp.); January 2, 2009 to January 2, 2010. Contact: Libby Pemberton

EPA authorized the use of triflumizole on mustard greens to control powdery mildew (Erysiphe spp.); January 2, 2009 to January 2, 2010. Contact: Libby Pemberton

EPA authorized the use of triflumizole on Chinese napa cabbage to control powdery mildew (Erysiphe spp.); January 2, 2009 to January 2, 2010. Contact: Libby Pemberton

EPA authorized the use of triflumizole on coriander (cilantro) to control powdery mildew (Erysiphe spp.); January 2, 2009 to January 2, 2010. Contact: Libby Pemberton

EPA authorized the use of triflumizole on broccoli to control powdery mildew (Erysiphe spp.); January 2, 2009 to January 2, 2010. Contact: Libby Pemberton

EPA authorized the use of triflumizole on turnip greens to control powdery mildew (Erysiphe spp.); January 2, 2009 to January 2, 2010. Contact: Libby Pemberton

EPA authorized the use of fenpyroximate in beehives to control varroa mites; February 6, 2009 to September 30, 2009. Contact: Stacey Groce.

EPA authorized the use of pendimethalin on Bermuda grass pastures and hayfields to control sandbur species; March 12, 2009 to June 30, 2009. Contact: Stacey Groce.

EPA authorized the use of anthraquinone on field and sweet corn seed to repel sandhill cranes; March 12, 2009 to March 11, 2010. Contact: Marcel Howard.

EPA authorized the use of dinotefuron on rice to control rice stink bug; June 4, 2009 to October 30, 2009. Contact: Libby Pemberton.

EPA authorized the use of fenpyroximate in beehives to control varroa mites; September 30, 2009 to October 1, 2010. Contact: Stacey Groce.

Utah

Department of Agriculture

Specific exemption: EPA authorized the use of spirotetramat on dry bulb onions to control thrips, which transmit iris yellow spot virus; May 29, 2009 to September 1, 2009. Contact: Andrew Ertman.

Washington

Department of Agriculture

Specific exemption: EPA authorized the use of fenpyroximate in beehives to control varroa mites; October 6, 2008 to September 30, 2009. Contact: Stacey Groce.

Specific exemption: EPA authorized the use of sumithrin and piperonyl butoxide in overlap areas around residences and agricultural production areas to control Western Encephalitis mosquito (Culex tarsalis); October 6, 2008 to October 6, 2009. The Western Encephalitis mosquito has been implicated in mosquito-borne disease transmission of West Nile virus, a disease which presents a serious threat to public and animal health. Contact: Princess Campbell.

EPA authorized the use of linuron on lentils to control mayweed chamomile and prickly lettuce; December 23, 2008 to June 20, 2009. Contact: Andrea Conrath.

EPA authorized the use of sulfentrazone on strawberries to control broadleaf; March 15, 2009 to February 28, 2010. Contact: Andrew Ertman.

EPA authorized the use of spirotetramat on dry bulb onion to control thrips; July 22, 2009 to September 15, 2009. Contact: Andrew Ertman.

Crisis: On May 30, 2009, for the use of anthraquinone on field and sweet corn to repel blackbirds and other bird species. This program ended on May 30, 2009. Contact: Marcel Howard.

Specific exemption: EPA authorized the use of fenpyroximate in beehives to control varroa mites; September 30, 2009 to October 1, 2010. Contact: Stacey Groce.

Wisconsin

Department of Agriculture, Trade, and Consumer Protection

Crisis: On August 17, 2009, for the use of ortho-phenyl-phenol on potato handling, storage and production areas to control potato ring rot. This program ended on December 31, 2009. Contact: Andrea Conrath.

Specific exemption: EPA authorized the use of anthraquinone on field and sweet corn seed to repel sandhill cranes; March 12, 2009 to March 11, 2010. Contact: Marcel Howard.

EPA authorized the use of mancozeb on ginseng to control Phytophthora blight; May 22, 2009 to October 31, 2009. Contact: Stacey Groce.

EPA authorized the use of zoxamide on ginseng to control Phytophthora blight; May 22, 2009 to October 31, 2009. Contact: Stacey Groce.

EPA authorized the use of spirotetramat on dry bulb onion to control thrips, which transmit iris yellow spot virus; May 29, 2009 to September 15, 2009. Contact: Andrew Ertman.

EPA authorized the use of sulfentrazone on strawberries to control broadleaf weeds; June 20, 2009 to December 15, 2009. Contact: Andrew Ertman.

EPA authorized the use of abamectin on dry bulb onions to control thrips; July 20, 2009 to September 15, 2009. Contact: Andrew Ertman.

EPA authorized the use of chlorpyrifos on ginseng to control root-damaging insect larvae such as cutworms, grubs, rootworms, and wireworms; August 27, 2009 to November 15, 2009. Contact: Stacey Groce.

Crisis: On June 27, 2009, for the use of avermectin on dry bulb onion to control thrips, which transmit iris yellow spot virus. This program ended on July 12, 2009. Contact: Andrew Ertman.

Specific exemption: EPA authorized the use of fenpyroximate in beehives to control varroa mites; July 8, 2009 to September 30, 2009. Contact: Stacey Groce.

Wyoming

Department of Agriculture

Crisis: On May 1, 2009, for the use of fenpyroximate in beehives to control varroa mites. This program ended on May 13, 2009. Contact: Stacey Groce.

Specific exemption: EPA authorized the use of fenpyroximate in honeybee hives to control varroa mites; May 14, 2009 to September 30, 2009. Contact: Stacey Groce.

B. Federal Departments and Agencies

Agriculture Department

Animal and Plant Health Inspector Service

Quarantine: EPA authorized the use of methyl bromide on imported avocados, bananas, opuntia, plantains, leafy vegetables not on Q Label (including Brassica Leafy), cucurbit vegetables not on Q Label, root and tuber vegetables not on the Q Label, dasheen, edible podded legume vegetables, fresh herbs and spices, ivy gourd, kiwi fruit, longan, lychee fruit, fresh and dried mint, pointed gourd, rambutan, cucurbit seeds, edible (shelled/unshelled), blackberries, raspberries, and plumcot/pluot to control various plant pests not currently established in the United States; This program ended on March 3, 2010. Contact: Libby Pemberton.

Specific exemption: EPA authorized the use of diphacinone in the habitat of federally protected species, in Egmont Bay, Tampa Bay, Florida to control invasive rodent predators which feed upon eggs and hatchlings of endangered and threatened bird and turtle species; May 15, 2009 to May 15, 2012. Contact: Princess Campbell.

List of Subjects

Environmental protection, Pesticides and pests.

Dated: August 31, 2010.
G. Jeffrey Herndon,
Acting Director, Registration Division, Office of Pesticide Programs.

[FR Doc. 2010-22333 Filed 9-7-10; 8:45 am]

BILLING CODE 6560-50-S